DEPARTMENT OF HEALTH AND HUMAN SERVICES

Administration for Children and Families

Statement of Organization, Functions and Delegation of Authority

Notice is hereby given that I have delegated to the Director, Office of Family Assistance, the following authorities vested in me by the Secretary of Health and Human Services in the memorandum dated August 20, 1991, pertaining to the Head Start Program and the Child Development Associate Scholarship Assistance Grants Program, in the memorandum dated August 20, 1991, pertaining to the Omnibus Budget Reconciliation Act of 1981, in the memorandum dated August 20, 1991, pertaining to the Omnibus Budget Reconciliation Act of 1990 (OBRA 1990, Pub. L. 101-508), and in the memorandum dated September 16, 1997, pertaining to the Personal Responsibility and Work Opportunity Reconciliation Act of 1996 (PRWORA, Pub. L. 104-193).

(a) Authorities Delegated

1. Authority to administer the provisions of the Child Development Associate Scholarship Assistance Act, 42 U.S.C. 10901-10905, and as amended now and hereafter.

2. Authority to administer the provisions of Subchapter D—Grants for Planning and Development of Dependent Care Programs and for other purposes (Chapter 8, Title VI of the Omnibus Budget Reconciliation Act of 1981, Pub. L. 97-35, 42 U.S.C. 9871 et seq.) and as amended now and hereafter.

3. Authority for the Child Care and Development Block Grants, under Section 5082 of OBRA 1990, (42 U.S.C. 9858 et seq.), and as amended now and hereafter.

4. Authority to administer the provisions of the Child Care and Development Block Grant Amendments of 1996, 42 U.S.C. 9801 note, under Sections 601-615 of the Personal Responsibility and Work Opportunity Reconciliation Act of 1996, 42 U.S.C. 1305 note, 42 U.S.C. 601 et seq., and as amended now and hereafter.

(b) Limitations

1. This delegation shall be exercised under the Department's existing policies on delegations and regulations.

2. This delegation does not include the authority to submit reports to Congress and shall be exercised under financial and administrative requirements applicable to all Administration for Children and Families authorities.

3. The approval or disapproval of grant applications and the making of grant awards require concurrence of the appropriate Grants Officer. The approval or disapproval of contract proposals and awards are subject to the requirements of the Federal Acquisition Regulations and requires the concurrence of the Contracting Officer.

4. This delegation of authority does not include the authority to sign and issue notices of grant awards.

5. This delegation of authority does not include the authority to appoint Action Officials for Audit Resolution.

6. This delegation of authority does not include the authority to appoint Central Office or Regional Office Grant Officers for the administration of the child care related programs.

7. This delegation of authority does not include the authority to hold hearings.

8. This delegation of authority does not include the authority to approve or disapprove awards for grants or contracts for research, demonstration, or evaluations relating to child care.

9. Any redelegation shall be in writing and prompt notification must be provided to all affected managers, supervisors, and other personnel, and requires the concurrence of the Deputy Assistant Secretary for Administration.

(c) Effect on Existing Delegations

This delegation supersedes any previous delegation of authority pertaining to authorities delegated herein.

(d) Effective Date

This delegation was effective upon the date of signature.

I hereby affirm and ratify any actions taken by the Director, Office of Family Assistance, which involved the exercise of the authorities delegated herein prior to the effective date of this delegation.

Dated: February 16, 2007.
Wade F. Horn,
Assistant Secretary for Children and Families.

[FR Doc. E7-3325 Filed 2-26-07; 8:45 am]

BILLING CODE 4184-01-P